NUCLEAR REGULATORY COMMISSION

[Docket Nos. 50-373 and 50-374; NRC-2014-0268]

Exelon Generation Company, LLC.; LaSalle County Station, Units 1 and 2; License Renewal

AGENCY: Nuclear Regulatory Commission.

ACTION: License renewal and record of decision; issuance.

SUMMARY: The U.S. Nuclear Regulatory Commission (NRC) has issued renewed facility operating license Nos. NPF-11 and NPF-18 to Exelon Generation Company, LLC (Exelon or the licensee), the operator of LaSalle County Station, Units 1 and 2. Renewed facility operating license Nos. NPF-11 and NPF-18 authorize the operation of LaSalle County Station, Units 1 and 2 by the licensee at reactor core power levels not in excess of 3546 megawatts thermal in accordance with the provisions of the renewed licenses and technical specifications until April 17, 2042 and December 16, 2043, respectively. The NRC prepared a safety evaluation report, a final supplemental environmental impact statement (FSEIS), and a record of decision (ROD) that support its decision to issue renewed facility operating license Nos. NPF-11 and NPF-18.

DATES: Renewed facility operating license Nos. NPF-11 and NPF-18 were issued and effective on October 19, 2016.

ADDRESSES: Please refer to Docket ID NRC-2014-0268 when contacting the NRC about the availability of information regarding this document. You may obtain publicly-available information related to this document using any of the following methods:

• Federal Rulemaking Web site: Go to http://www.regulations.gov and search for Docket ID NRC-2014-0268. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jeffrey Mitchell, Office of Nuclear Reactor Regulation, U.S. Nuclear Regulatory Commission, Washington, DC 20555-0001; telephone: 301-415-3019; email: Jeffrey.Mitchell2@nrc.gov.

SUPPLEMENTARY INFORMATION: Notice is hereby given that the NRC has issued renewed facility operating license Nos. NPF-11 and NPF-18 to Exelon Generation Company, LLC, the operator of LaSalle County Station, Units 1 and 2. Renewed facility operating license Nos. NPF-11 and NPF-18 authorize the operation of LaSalle County Station, Units 1 and 2 by the licensee at reactor core power levels not in excess of 3546 megawatts thermal in accordance with the provisions of the renewed licenses and technical specifications until April 17, 2042 and December 16, 2043, respectively.

LaSalle County Station, Units 1 and 2, are boiling-water reactors located in Brookfield Township, LaSalle County, Illinois. The NRC determined that the application for the renewed licenses, “License Renewal Application, LaSalle County Station, Units 1 and 2, Facility Operating License Nos. NPF-11 and NPF-18,” dated December 9, 2014 (ADAMS Accession No. ML14343A849), as supplemented by letters dated through June 8, 2016, complied with the standards and requirements of the Atomic Energy Act of 1954, as amended (the Act), and the NRC's regulations set forth in Chapter I of title 10 of the Code of Federal Regulations (10 CFR). As required by the Act and the NRC's regulations, the NRC has made the appropriate findings, which are set forth in the renewed licenses. A public notice of the proposed issuance of the renewed licenses and an opportunity to request a hearing was published in the Federal Register on February 3, 2015 (80 FR 5822).

The NRC's FSEIS, NUREG-1437, Supplement 57, “Generic Environmental Impact Statement for License Renewal of Nuclear Plants Regarding LaSalle County Station, Units 1 and 2,” and ROD that support the NRC's issuance of renewed facility operating license Nos. NPF-11 and NPF-18 are available in ADAMS under Accession Nos. ML16264A222 and ML16238A029, respectively. As discussed in the FSEIS and ROD, the NRC considered a range of reasonable alternatives to the issuance of the renewed licenses that included new nuclear power generation, coal-integrated gasification combined-cycle, natural gas combined-cycle (NGCC), a combination of wind, solar, and NGCC, purchased power, and the no-action alternative. The FSEIS and ROD document the NRC's decision with respect to its environmental review that the adverse environmental impacts of issuing the renewed licenses are not so great that preserving the option of license renewal for energy-planning decisionmakers would be unreasonable.

For further details with respect to this action, see: (1) The Exelon Generation Company, LLC license renewal application for LaSalle County Station, Units 1 and 2, dated December 9, 2014, as supplemented by letters dated through June 8, 2016; (2) the NRC safety evaluation report dated September 2016 (ADAMS Accession No. ML16271A039); (3) the NRC FSEIS dated August 2016; and (4) the NRC ROD dated October 2016.

Dated at Rockville, Maryland, this 19th day of October, 2016.
For the Nuclear Regulatory Commission.
Jane E. Marshall,
Acting Director, Division of License Renewal, Office of Nuclear Reactor Regulation.

[FR Doc. 2016-25988 Filed 10-26-16; 8:45 am]

BILLING CODE 7590-01-P